DEPARTMENT OF LABOR

Employment and Training Administration

Investigations Regarding Certifications of Eligibility To Apply for Worker Adjustment Assistance

Petitions have been filled with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 20, 2004.

Interested persons are invited to submit written comments regarding the subject matter of the investigations to the Director, Division of Trade Adjustment Assistance, at the address shown below, not later than September 20, 2004.

The petitions filed in this case are available for inspection at the Office of the Director, Division of Trade Adjustment Assistance, Employment and Training Administration, U.S. Department of Labor, Room C-5311, 200 Constitution Avenue, NW., Washington, DC 20210.

Signed at Washington, DC this 27th day of August 2004.
Timothy Sullivan,
Director, Division of Trade Adjustment Assistance.

Appendix
Petitions instituted between 08/09/2004 and 08/26/2004
TA-W | Subject firm (petitioners) | Location | Date of institution | Date of petition
55,403 | Broyhill Furniture Lenoir Chair #3 (Wkrs) | Lenoir, NC | 08/09/2004 | 07/05/2004
55,404 | Johnson Controls (Comp) | Glasgow, KY | 08/09/2004 | 08/05/2004
55,405 | Specialty Shearings Dyeing (Comp) | Greenville, SC | 08/09/2004 | 08/02/2004
55,406 | United States Can (Wkrs) | New Castle, PA | 08/09/2004 | 08/06/2004
55,407 | Delta Energy Systems (Comp) | Palm Coast, FL | 08/09/2004 | 07/14/2004
55,408 | Kokoku Wire Industries (Wkrs) | South Bend, IN | 08/10/2004 | 08/09/2004
55,409 | Elder Manufacturing (UNITE) | Dexter, MO | 08/10/2004 | 08/06/2004
55,410 | J. Royale Furniture (Comp) | Conover, NC | 08/10/2004 | 08/04/2004
55,411 | Belden Communications Division (Wkrs) | Phoenix, AZ | 08/10/2004 | 08/03/2004
55,412 | Gordon Aluminum Industries (Comp) | Schofield, WI | 08/11/2004 | 08/09/2004
55,413 | International Bearings LLC (Wkrs) | Clinton, TN | 08/11/2004 | 08/05/2004
55,414 | Klipsch LLC (AR) | Hope, AR | 08/11/2004 | 08/09/2004
55,415 | Brooke Industries (WI) | Fond du Lac, WI | 08/11/2004 | 08/10/2004
55,416 | Cerro Copper Flow (USWA) | Sauget, IL | 08/11/2004 | 08/10/2004
55,417 | Abbott Laboratories Medisense Products | Bedford, MA | 08/11/2004 | 08/10/2004
55,418 | Electronic Data Systems (NPW) | Atlanta, GA | 08/11/2004 | 08/10/2004
55,419 | Kolonaki Import (CA) | San Francisco, CA | 08/11/2004 | 07/01/2004
55,420 | Lanier Clothes (Comp) | Greenville, GA | 08/11/2004 | 08/11/2004
55,421 | Commonwealth Industries (Comp) | Kings Mountain, NC | 08/11/2004 | 08/11/2004
55,422 | Foamex LP (Comp) | Williamsport, PA | 08/11/2004 | 08/03/2004
55,423 | Granville Hosiery (Comp) | Oxford, NC | 08/11/2004 | 08/05/2004
55,424 | Degussa Corp., Silanes Plant (Wkrs) | Theodore, AL | 08/11/2004 | 08/09/2004
55,425 | LeSportsac, Inc. (Comp) | Hot Springs, NC | 08/11/2004 | 08/10/2004
55,426 | New World Pasta Co. (Comp) | Omaha, NE | 08/12/2004 | 08/10/2004
55,427 | Kincaid Furniture (Wkrs) | Taylorsville, NC | 08/12/2004 | 08/11/2004
55,428 | Alandale Industries (Wkrs) | Troy, NC | 08/12/2004 | 08/09/2004
55,429 | Medline Industries (Comp) | Monroeville, AL | 08/12/2004 | 08/10/2004
55,430 | Associated Hygienic Products (PACE) | Oconto Falls, WI | 08/12/2004 | 07/19/2004
55,431 | American Manufacturing International (NJ) | Oxford, NJ | 08/12/2004 | 08/11/2004
55,432 | Down River, LLC (Comp) | White City, OR | 08/12/2004 | 08/10/2004
55,433 | Peachtree MFN Products (Wkrs) | Braselton, GA | 08/13/2004 | 08/13/2004
44,434 | Kent Sporting Goods (USWA) | New London, OH | 08/13/2004 | 08/03/2004
55,435 | Rock-Tenn (Comp) | Aurora, IL | 08/13/2004 | 08/02/2004
55,436 | Element K LLC (NY) | Rochester, NY | 08/13/2004 | 08/04/2004
55,437 | Amot Controls/Ropermax (Wkrs) | Richmond, CA | 08/13/2004 | 08/01/2004
55,438 | Culp, Inc. (Wkrs) | Conygham, PA | 08/16/2004 | 08/12/2004
55,439 | Sun Microsystems, Inc. (Wkrs) | San Diego, CA | 08/16/2004 | 08/04/2004
55,440 | Elo Touch System (Comp) | Fremont, CA | 08/16/2004 | 07/22/2004
55,441 | Resistance Technology (MN) | Arden Hills, MN | 08/16/2004 | 08/10/2004
55,442 | Ocean Star International (Wkrs) | Snowville, UT | 08/16/2004 | 08/16/2004
55,443 | Cclear-Com Communications System (Wkrs) | Emeryville, CA | 08/17/2004 | 08/16/2004
55,444 | Boyhill Furniture Industries (Wkrs) | Conover, NC | 08/17/2004 | 08/11/2004
55,445 | Irwin Manufacturing Corp. (Comp) | Ocilla, GA | 08/16/2004 | 08/13/2004
55,446 | Shakespeare (Comp) | Newberry, SC | 08/16/2004 | 08/10/2004
55,447 | Juno, Inc. (MN) | Anoka, MN | 08/16/2004 | 08/11/2004
55,448 | Sheaffer Pen Co. (UAW) | Ft. Madison, IA | 08/16/2004 | 08/09/2004
55,449 | Wooslee Partners LC (MI) | Troy, MI | 08/16/2004 | 08/03/2004
55,450 | Jeld-Wen of Everett (Wkrs) | Everett, WA | 08/16/2004 | 08/13/2004
55,451 | Lawrence Hardware LLC (Wkrs) | Sterling, IL | 08/16/2004 | 07/28/2004
55,452 | United States Gypsum Co. (Wkrs) | Tawas City, MI | 08/16/2004 | 07/29/2004
55,453 | Prudential (Wkrs) | Dresher, PA | 08/16/2004 | 08/12/2004
55,454 | Pennsylvania House (USWA) | Lewisburg, PA | 08/16/2004 | 08/13/2004
55,455 | Innovex, Inc. (Comp) | Maple Plain, MN | 08/17/2004 | 08/12/2004
55,456 | Five Rivers Electronic Innovations, LLC | Jefferson City, TN | 08/17/2004 | 08/13/2004
55,457 | World Kitchen (Wkrs) | Massillon, OH | 08/17/2004 | 08/12/2004
55,458 | Decrane Cabin Interiors (Comp) | Tucson, AZ | 08/17/2004 | 08/06/2004
55,459 | Plastic Engineered Components (Comp) | El Paso, TX | 08/17/2004 | 08/12/2004
55,460 | Top-Flite Golf Co. (Wkrs) | Chicopee, MA | 08/17/2004 | 08/11/2004
55,461 | Airey-Thompson Co., Inc. (CA) | Los Angeles, CA | 08/17/2004 | 08/02/2004
55,462 | International Textile Group (Comp) | Raeford, NC | 08/17/2004 | 08/16/2004
55,463 | Rajala Lumber (Wkrs) | Deer River, MN | 08/17/2004 | 08/13/2004
55,464 | RPM Technology (Comp) | Fort Collins, CO | 08/17/2004 | 08/11/2004
55,465 | Diolen Industrial Fibers, Inc. (Comp) | Scottsboro, AL | 08/17/2004 | 08/16/2004
55,466 | WSGM Holding, LLC (NPS) | Burlington, NC | 08/17/2004 | 08/09/2004
55,467 | Precision Moulding Co. (Comp) | Cottonwood, CA | 08/17/2004 | 08/16/2004
55,468 | Teleflex (Wkrs) | Lebanon, VA | 08/18/2004 | 08/10/2004
55,469 | Stork Prints America (Comp) | Charlotte, NC | 08/18/2004 | 08/13/2004
55,470 | Thomas and Betts (Comp) | Dedham, MA | 08/18/2004 | 08/12/2004
55,471 | Schweiger (Wkrs) | Jefferson, WI | 08/18/2004 | 08/18/2004
55,472 | Schneider Electric/Square D (Wkrs) | Monroe, NC | 08/19/2004 | 08/12/2004
55,473 | Beaird Industries (Wkrs) | Shreveport, LA | 08/19/2004 | 08/18/2004
55,474 | Ecodyne MRM, Inc. (Comp) | Massiollon, OH | 08/19/2004 | 08/09/2004
55,475 | Synthetic Thread Co., Inc. (UNITE) | Bethlehem, PA | 08/19/2004 | 08/19/2004
55,476 | Toro Irrigation and Consumer Products (Comp) | El Paso, TX | 08/19/2004 | 08/17/2004
55,477 | Screen Specialty Shop (Wkrs) | West Jefferson, NC | 08/19/2004 | 08/09/2004
55,478 | Ingersoll Cutting Tool Co. (Wkrs) | Rockford, IL | 08/19/2004 | 08/09/2004
55,479 | Tyco Safety Products (Comp) | Westminster, MA | 08/19/2004 | 08/11/2004
55,480 | Conduit Pipe Products Co. (Wkrs) | W. Jefferson, OH | 08/19/2004 | 08/09/2004
55,481 | Durite Manufacturing (Comp) | Green Bay, WI | 08/20/2004 | 08/17/2004
55,482 | TI Automotive (Comp) | Cass City, MI | 08/20/2004 | 08/18/2004
55,483 | Siemens Energy and Automation (Wkrs) | Modesto, CA | 08/20/2004 | 08/18/2004
55,484 | Toro Irrigation and Consumer Products (Comp) | El Paso, TX | 08/20/2004 | 08/17/2004
55,485 | American Italian Pasta (Comp) | Excelsior Spring, MO | 08/20/2004 | 08/19/2004
55,486 | Visteon Systems, LLC (IUECWA) | Connersville, IN | 08/20/2004 | 08/18/2004
55,487 | Custom Sewing Co., Inc. (Wkrs) | Lawrenceburg, TN | 08/20/2004 | 08/16/2004
55,488 | Bridal Original (IL) | Collinsville, IL | 08/20/2004 | 08/19/2004
55,489 | Brite Star Mfg., Co. (Wkrs) | Philadelphia, PA | 08/20/2004 | 08/13/2004
55,490 | Federal Mogul Corp. (Comp) | LaGrange, GA | 08/20/2004 | 08/18/2004
55,491 | Tubbs Snowshoes Co. (Comp) | Stowe, VT | 08/20/2004 | 08/10/2004
55,492 | Harte-Hanks Market Intelligence (MI) | Sterling Hgts., MI | 08/20/2004 | 08/19/2004
55,493 | Zenith Logistics, LLC (Comp) | Macon, GA | 08/23/2304 | 08/20/2304
55,494 | Raylon Corporation (The) (Comp) | New York, NY | 08/23/2304 | 08/20/2304
55,495 | Tesco Engineering (Wkrs) | Auburn Hills, MI | 08/23/2304 | 08/19/2304
55,496 | Honeywell (MI) | Boyne City, MI | 08/23/2304 | 08/16/2304
55,497 | Imlay City Plastics (Comp) | Imlay City, MI | 08/23/2304 | 08/20/2304
55,498 | American Xtal Technology (Comp) | Fremont, CA | 08/23/2004 | 08/20/2004
55,499 | Marshall Erdman (UIBC) | Waunakee, WI | 08/23/2004 | 08/20/2004
55,500 | Arlee Home Fashion (Wkrs) | Mountain Grove, MO | 08/24/2004 | 08/18/2004
55,501 | Sandvik Special Metals LLC (Comp) | Kennewick, WA | 08/24/2004 | 08/20/2004
55,502 | Schott North America (UFCW) | Duryea, PA | 08/24/2004 | 08/22/2004
55,503 | Gear Research (Comp) | Grand Rapids, MI | 08/24/2004 | 08/23/2004
55,504 | PPC Insulators (IBT) | Knoxville, TN | 08/24/2004 | 08/20/2004
55,505 | Belden CDT (Comp) | Essex Junction, VT | 08/24/2004 | 08/17/2004
55,506 | Group Lacasse LLC (Comp) | Henderson, TX | 08/25/2004 | 08/24/2004
55,507 | Aerus, LLC (Comp) | Bristol, VA | 08/25/2004 | 08/24/2004
55,508 | EDM Corp. (Comp) | Piqua, OH | 08/26/2004 | 08/25/2004
55,509 | Friday Services (Comp) | Asheville, NC | 08/26/2004 | 08/23/2004
55,510 | Fey Automotive Products (Wkrs) | Irwindale, CA | 08/26/2004 | 08/17/2004
55,511 | Cherry Electrical Products (Wkrs) | Pleasant Prairi, WI | 08/26/2004 | 08/24/2004
55,512 | Kimble Glass (USWA) | Warsaw, IN | 08/26/2004 | 08/25/2004
55,513 | Peerless Pottery (Comp) | Rockport, IN | 08/26/2004 | 08/24/2004

[FR Doc. 04-20339 Filed 9-7-04; 8:45 am]

BILLING CODE 4510-30-M